DEPARTMENT OF HEALTH AND HUMAN SERVICES

Centers for Disease Control and Prevention

[Docket Number NIOSH-245]

Notice of Public Meeting on the NIOSH Document Titled: “Criteria for a Recommended Standard: Occupational Exposure to Diacetyl and 2,3-pentanedione”

AGENCY: National Institute for Occupational Safety and Health (NIOSH), Centers for Disease Control and Prevention (CDC), Department of Health and Human Services (HHS).

ACTION: Notice of public meeting.

SUMMARY: The National Institute for Occupational Safety and Health (NIOSH) of the Centers for Disease Control and Prevention (CDC) will hold a public meeting to discuss and obtain comments on the draft document, “Criteria for a Recommended Standard: Occupational Exposure to Diacetyl and 2,3-pentanedione”. A copy of the draft document will be posted on the Internet at http://www.cdc.gov/niosh/docket/review/docket245/default.html for Docket number NIOSH-245 on August 12, 2011. This notice serves as advance notice of the meeting and public comment period.

Table of Contents

Date and Time

Address

Status

Speaker Registration

Agenda

Supplementary Information

I. Matters to Be Discussed

II. Transcripts

III. Public Comment Period

Contact Person for More Information

DATES and Time: August 26, 2011, 8 a.m.-4 p.m., Eastern Time. Please note that public comments may end before the time indicated, following the last call for comments. Members of the public who wish to provide comments should plan to attend the meeting at the start time listed.

ADDRESSES: Omni Shoreham, 2500 Calvert, Street NW. (at Connecticut Avenue) Washington, DC 20008.

Status: The meeting is open to the public limited only by the space available. The meeting room accommodates 150 people. To pre-register for the meeting, interested parties should contact the NIOSH Docket Office at nioshdocket@cdc.gov or by fax at (513) 533-8285. Due to limited space, notification of intent to attend the meeting must be made to the NIOSH Docket Office no later than August 19, 2011. Priority for attendance will be given to those providing oral comments. Other requests to attend the meeting will then be accommodated on a first-come basis.

Speaker Registration: Persons wanting to provide oral comments on the draft document should contact the NIOSH Docket Office at nioshdocket@cdc.gov or by fax at (513) 533-8285. Presenters will be permitted approximately 10 minutes, and will be informed if additional time becomes available. All requests to present should contain the name, address, telephone number, and relevant business affiliations of the presenter, and the topic of the presentation. Oral comments made at the public meeting must also be submitted to the NIOSH Docket Office in writing in order to be considered by the Agency.

Agenda: The meeting will begin with an introduction and presentation by Federal officials, followed by presentations from attendees who register to speak. Each speaker will be limited to ten minutes. If all pre-registered presentations are complete before the end time, there will be an open session to receive comments from anyone who has not signed up on the speaker registration list who may wish to speak. Open session comments will also be limited to 10 minutes per speaker. After the last speaker or at 4 p.m., whichever occurs first, the meeting will be adjourned.

SUPPLEMENTARY INFORMATION:

I. Matters To Be Discussed

At the public meeting, special emphasis will be placed on the following topics:

1. Hazard identification, risk estimation, and discussion of health effects for diacetyl and 2,3-pentanedione;

2. Basis of the Recommended Exposure Limit for diacetyl and 2,3-pentanedione;

3. Workplaces and occupations where exposure to diacetyl and 2,3-pentanedione occur;

4. Current exposure measurement methods;

5. Current strategies for controlling occupational exposure to diacetyl and 2,3-pentanedione: e.g., engineering controls, work practices, medical surveillance, and personal protective equipment;

6. Oral comments provided to NIOSH on the draft criteria document.

II. Transcripts

Transcripts will be prepared and posted to NIOSH Docket number 245 approximately 30 days after the meeting. If a person making a comment gives his or her name, no attempt will be made to redact that name. NIOSH will take reasonable steps to ensure that individuals making public comments are aware of the fact that their comments (including their name, if provided) will appear in a transcript of the meeting posted on a public Web site. Such reasonable steps include: (a) A statement read at the start of the meeting stating that transcripts will be posted and names of speakers will not be redacted; and (b) A printed copy of the statement mentioned in (a) above will be displayed on the table where individuals sign up to make public comments. If individuals in making a statement reveal personal information (e.g., medical information) about themselves, that information will not usually be redacted. The CDC Freedom of Information Act coordinator will, however, review such revelations in accordance with the Freedom of Information Act and if deemed appropriate, will redact such information. Disclosures of information concerning third parties will be redacted.

III. Public Comment Period

Written comments on the document will be accepted until October 14, 2011 in accordance with the instructions below. All material submitted to NIOSH should reference Docket Number NIOSH-245. All electronic comments should be formatted as Microsoft Word or pdf files and make reference to docket number NIOSH-245. To submit comments, please use one of these options:

• Present oral comments at the public meeting and provide a written copy of comments to the NIOSH Docket Office.

• Send NIOSH comments using the online form at http://www.cdc.gov/niosh/docket/review/docket245/comments.html.

• Send comments by e-mail to nioshdocket@cdc.gov?subject=245.

• Facsimile: (513) 533-8285.

• Mail: NIOSH Docket Office, Robert A. Taft Laboratories, MS-C34 4676 Columbia Parkway, Cincinnati, Ohio 45226.

All information received in response to this notice will be available for public examination and copying at, NIOSH Docket Office, 4676 Columbia Parkway, Room 111, Cincinnati, Ohio 45226. A complete electronic docket containing all comments submitted will be available on the NIOSH docket home page at http://www.cdc.gov/niosh/docket/, and comments will be available in writing by request. NIOSH includes all comments received without change in the docket, including any personal information provided.

CONTACT PERSON FOR MORE INFORMATION: Lauralynn Taylor McKernan, ScD, CIH, NIOSH, 4676 Columbia Parkway, MS-C32, Cincinnati, OH 45226, telephone (513) 533-8542, fax (513) 533-8230, E-mail LMcKernan@cdc.gov.

Dated: July 19, 2011.
John Howard,
Director, National Institute for Occupational Safety and Health, Centers for Disease Control and Prevention.

[FR Doc. 2011-18755 Filed 7-22-11; 8:45 am]

BILLING CODE 4163-19-P